DEPARTMENT OF AGRICULTURE

Forest Service

Hood/Willamette Resource Advisory Committee (RAC)

AGENCY: Forest Service, USDA Forest Service, Action: Action of Meeting.

SUMMARY: The Hood/Willamette Resource Advisory Committee (RAC) will meet on Wednesday, June 22, 2005. The meeting is schedule to begin at 9 a.m. and will conclude at approximately 3 p.m. The meeting will be held at the Oregon Department of Forestry State Office, Building D; 2600 State Street; Salem, Oregon; (503) 945-7207. The tentative agenda includes: (1) Recommendations on 2006 Projects; and (2) Public Forum.

The Public Forum is tentatively scheduled to begin at 9:30 a.m. Time allotted for individual presentations will be limited to 3-4 minutes. Written comments are encouraged, particularly if the material cannot be presented within the time limits for the Public Forum. Written comments may be submitted prior to the June 22nd meeting by sending them to Designated Federal Official Donna Short at the address given below.

FOR FURTHER INFORMATION CONTACT: For more information regarding this meeting, contact Designated Federal Official Donna Short; Sweet Home Ranger District; 3225 Highway 20; Sweet Home, Oregon 97386; (541) 367-9220.

Dated: May 24, 2005.
Doris Tai,
Acting Forest Supervisor.

[FR Doc. 05-10714 Filed 5-27-05; 8:45 am]

BILLING CODE 3410-11-M